DEPARTMENT OF ENERGY

Fusion Energy Sciences Advisory Committee

AGENCY: Office of Science, Department of Energy.

ACTION: Notice of open meeting.

SUMMARY: This notice announces a meeting of the Fusion Energy Sciences Advisory Committee (FESAC). The Federal Advisory Committee Act (Pub. L. 92-463, 86 Stat. 770) requires that public notice of these meetings be announced in the Federal Register.

DATES: September 22, 2014; 8:30 a.m. to 6:00 p.m. September 23, 2014; 8:30 a.m. to 12:00 noon

ADDRESSES: Gaithersburg Marriott Washingtonian Center, 9751 Washingtonian Boulevard, Gaithersburg, MD 20878.

FOR FURTHER INFORMATION CONTACT: Edmund J. Synakowski, Designated Federal Officer, Office of Fusion Energy Sciences; U.S. Department of Energy; 1000 Independence Avenue SW., Washington, DC 20585-1290. Telephone: (301) 903-4941.

SUPPLEMENTARY INFORMATION: Purpose of the Meeting: To consider for approval the report of the FESAC Strategic Plan Subcommittee. The report was requested in a letter from the Acting Director of the Office of Science (SC), dated April 8, 2014, in response to the FY 2014 Omnibus Appropriations Act which requires the Department to submit a ten-year strategic plan for the Fusion Energy Sciences (FES) program by January 2015.

Tentative Agenda Items

• Approval of the report of the Strategic Plan Subcommittee

• DOE/SC Perspective

• FES Perspective

• Update on the charge on the Committee of Visitors for FES

• Public Comment

• Adjourn

Note: Remote attendance of the FESAC meeting will be possible via ReadyTalk. Instructions can be found on FESAC Web site: (http://science.energy.gov/fes/fesac/meetings/) or by contacting Dr. Samuel J. Barish by email: sam.barish@science.doe.gov or by phone (301) 903-2917.

Public Participation: The meeting is open to the public. If you would like to file a written statement with the Committee, you may do so either before or after the meeting. If you would like to make an oral statement regarding any of the items on the agenda, you should contact Dr. Ed Synakowski at (301) 903-8584 (fax) or Ed.Synakowski@science.doe.gov (email). Reasonable provision will be made to include the scheduled oral statements during the Public Comments time on the agenda. The Chairperson of the Committee will conduct the meeting to facilitate the orderly conduct of business. Public comment will follow the 10-minute rule.

Minutes: The minutes of this meeting will be available for public review and copying within 30 days on the Fusion Energy Sciences Advisory Committee Web site— http://science.energy.gov/fes/fesac/

Issued at Washington, DC, on August 26, 2014.
LaTanya R. Butler,
Deputy Committee Management Officer.

[FR Doc. 2014-20904 Filed 9-2-14; 8:45 am]

BILLING CODE 6450-01-P